DEPARTMENT OF HEALTH AND HUMAN SERVICES

Centers for Medicare & Medicaid Services

[Document Identifier: CMS-216-94 and CMS-10112]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Organ Procurement Organization/Histocompatibility Laboratory Statement of Reimbursable Costs, manual instructions and supporting regulations contained in 42 CFR 413.20 and 413.24; Use: This form is required by statue and regulation for participation in the Medicare program. The information is used to determine payment for Medicare. Organ Procurement Organizations and Histocompatibility Laboratories are the users. Form Number: CMS-216-94 (OMB# 0938-0102); Frequency: Yearly; Affected Public: Business or other for-profit, Not-for-profit institutions; Number of Respondents: 115; Total Annual Responses: 115; Total Annual Hours: 5175. (For policy questions regarding this collection contact Angela Havrilla at 410-786-4516 or Amelia Citerone at 410-786-3901. For all other issues call 410-786-1326.)

2. Type of Information Collection Request: Extension without change of a currently approved collection; Title of Information Collection: Phone Surveys of Products and Services for Medicare Payment Validation and Supporting Regulations in 42 CFR 405.502. Use: The phone surveys of products and services for Medicare payment validation and supporting regulations in 42 CFR 405.502 will be used to identify specific products/services provided to Medicare beneficiaries and the costs associated with the provision of those products/services. The information collected will be used to validate the Medicare payment amounts for those products/services and institute revisions of payment amounts where necessary. The respondents will be the companies that have provided the product/service under review to Medicare beneficiaries. Form Number: CMS-10112 (OMB# 0938-0939); Frequency: Occasionally; Affected Public: Private sector—Business or other for-profit; Number of Respondents: 4,000; Total Annual Responses: 4,000; Total Annual Hours: 16,000. (For policy questions regarding this collection contact Michael Rich at 410-786-6856. For all other issues call 410-786-1326.)

To be assured consideration, comments and recommendations for the proposed information collections must be received by the OMB desk officer at the address below, no later than 5 p.m. on May 16, 2011.

OMB, Office of Information and Regulatory Affairs, Attention: CMS Desk Officer, Fax Number: (202) 395-6974, E-mail: OIRA_submission@omb.eop.gov.

Dated: April 8, 2011.
Michelle Shortt,
Director, Regulations Development Group, Office of Strategic Operations and Regulatory Affairs.

[FR Doc. 2011-9024 Filed 4-14-11; 8:45 am]

BILLING CODE 4120-01-P